FEDERAL MARITIME COMMISSION

Ocean Transportation Intermediary License Revocations

The Federal Maritime Commission hereby gives notice that the following Ocean Transportation Intermediary licenses have been revoked pursuant to section 19 of the Shipping Act of 1984 (46 U.S.C. 1718) and the regulations of the Commission pertaining to the licensing of Ocean Transportation Intermediaries, effective on the corresponding date shown below:

License Number: 004447F.

Name: Bestway Shipping, Inc.

Address: 269 E. Redondo Beach Blvd., Gardena, CA 90248.

Date Revoked: October 3, 2004.

Reason: Failed to maintain a valid bond.

License Number: 004263F.

Name: Distribution Transportation Sevices Company.

Address: 827 West Terra Lane, P.O. Box 526, O'Fallon, MO 63366.

Date Revoked: September 20, 2004.

Reason: Failed to maintain a valid bond.

License Number: 015742N.

Name: JB Han Company, Inc. dba Joinus Freight System.

Address: 550 E. Carson Plaza Drive, Suite 217, Carson, CA 90746.

Date Revoked: October 4, 2004.

Reason: Failed to maintain a valid bond.

License Number: 002388F.

Name: Ram's Cargo Brokers, Inc.

Address: 3900 NW 79th Avenue, Suite 534, Miami, FL 33166.

Date Revoked: October 1, 2004.

Reason: Failed to maintain a valid bond.

License Number: 016956F.

Name: Worldwide Group, Inc. dba World Trans Line.

Address: 14928 S. Figueroa Street, Gardena, CA 90248.

Date Revoked: October 1, 2004.

Reason: Failed to maintain a valid bond.

Sandra L. Kusumoto,
Director, Bureau of Certification and Licensing.

[FR Doc. 04-23475 Filed 10-19-04; 8:45 am]

BILLING CODE 6730-01-P